DEPARTMENT OF TRANSPORTATION

Federal Aviation Administration

14 CFR Part 71

[Docket No. FAA-2020-0490; Airspace Docket No. 18-AWA-2]

RIN 2120-AA66

Proposed Amendment of Class B Airspace; Miami, FL

AGENCY: Federal Aviation Administration (FAA), DOT.

ACTION: Notice of proposed rulemaking (NPRM).

SUMMARY: This action proposes to modify the Miami International Airport, FL (MIA) Class B airspace area to ensure the containment of aircraft conducting instrument procedures. The FAA is proposing this action to improve the flow of air traffic, enhance safety, and reduce the potential for midair collision in the MIA terminal area. This action also proposes changes to the MIA Class B airspace area to ensure the containment of arriving and departing aircraft within Class B airspace as required by FAA directives contained in FAA Order 7400.2M. This proposed action is separate and distinct from the Florida Metroplex Project.

DATES: Comments must be received on or before May 4, 2021.

ADDRESSES: Send comments on this proposal to the U.S. Department of Transportation, Docket Operations, 1200 New Jersey Avenue SE, West Building Ground Floor, Room W12-140, Washington, DC 20590-0001; telephone: (800) 647-5527, or (202) 366-9826. You must identify FAA Docket No. FAA-2020-0490 and Airspace Docket No. 18-AWA-2 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov, or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the MIA Class B airspace area to improve the flow of air traffic and enhance safety within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0490 and Airspace Docket No. 18-AWA-2) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0490 and Airspace Docket No. 18-AWA-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5.00 p.m., Monday through Friday, except federal holidays. An informal docket may also be examined during normal business hours at the office of the Eastern Service Center, Federal Aviation Administration, Room 210, 1701 Columbia Ave., College Park, GA, 30337.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

In 1973, the FAA issued a final rule that established the Miami, FL, Terminal Control Area (TCA) (38 FR 3588, February 8, 1973). As a result of the Airspace Reclassification final rule, which became effective in 1993, the term “Terminal Control Area” was replaced by “Class B airspace area.” (56 FR 65638, December 17, 1991). As with the former TCA, the primary purpose of a Class B airspace area is to reduce the potential for midair collisions in the airspace surrounding airports with high-density air traffic operations by providing an area in which all aircraft are subject to the same operating rules and equipment requirements.

In 1975, the FAA issued a final rule modifying the Miami, FL TCA (40 FR 4119, January 28, 1975). Based on changes in approach procedures, and a re-evaluation of the airspace needed to contain large turbine-powered aircraft, the FAA implemented numerous changes to the Miami, FL TCA. These included redefining various lateral boundaries and altitude floors of the TCA, and the removal of airspace not needed for the containment of aircraft. The revised configuration is similar to the current MIA Class B airspace area.

In 1983, the FAA issued a final rule that established a new “Area H” that raised the floor of the then Miami, FL TCA from 1,500 feet mean sea level (MSL), to 2,000 feet MSL in an area west of Miami-Opa Locka Executive Airport (OPF) (48 FR 5540, February 7, 1983). This change allowed aircraft to fly the Instrument Landing System (ILS) approach to OPF Runway 09L without entering the Miami, FL TCA.

A 1996 final rule corrected the legal description of the MIA Class B airspace area. The final rule was necessary due to the decommissioning of the Biscayne Bay, FL, Very High Frequency Omnidirectional Range (VOR), and the Miami, FL, VOR, navigation aids (NAVAID) that had been used to define the lateral limits of the airspace (61 FR 5934, February 15, 1996). The 1996 final rule simply replaced obsolete NAVAID references in the Class B description but it did not alter the actual vertical or lateral limits of the MIA Class B airspace area.

Developments Since the Last MIA Class B Airspace Area Modification

The last substantial change to the MIA Class B airspace area was the 1975 rule. That rule was based on air traffic activity levels from the 1970s. The following developments have taken place since its enactment:

—In 2003, a third parallel runway (08L/26R) was commissioned at MIA, which increased airport capacity by bringing the number of runways to four.

—Over 100 airlines are now serving MIA. MIA operations increased from 278,005 in 2015 to 416,773 in 2019. Passenger enplanements rose from 20,875,813 in 2016 to 21,021,640 in 2018.

—The South Florida area has seen significant growth in general aviation activity.

—Implementation of Area Navigation/Required Navigation Performance (RNAV/RNP) approach procedures at MIA.

—Advances in flight deck technology that allow aircraft automation to manage both the lateral and vertical flight path.

—Air carriers' adoption of “optimized profile descent” procedures that provide a constant angle, uninterrupted descent from cruising altitude into the terminal area. The newer generation aircraft utilize a shallower descent at reduced power settings resulting in a more fuel-efficient profile.

—Industry-wide migration to satellite-based global positioning system (GPS) RNAV procedures, and RNP procedures have replaced procedures that rely on ground-based navigational facilities.

—Introduction of several new capabilities at MIA that are expect to boost arrival capacity, including Simultaneous Instrument Approaches to Runway 9/27, Automatic Dependent Surveillance-Broadcast (ADS-B), and Wake Recategorization (RECAT)/Consolidated Wake Turbulence procedural changes.

Impact of MIA Class B Airspace Area Configuration on Operations

Despite the continued growth in air traffic operations and passenger enplanements over the years, the FAA has not substantially modified the MIA Class B airspace area since the 1975 rule. The current MIA Class B airspace area configuration and operational demand has the following effects:

—The MIA Class B airspace area does not fully contain aircraft flying instrument procedures at MIA as required by FAA directives contained in FAA Order 7400.2M. Aircraft executing instrument approaches routinely exit and re-enter Class B airspace on final approach.

—Controllers must vector large turbine-powered aircraft beyond the outer limit of Class B airspace during periods of moderate to heavy arrival demand in order to comply with final approach course interception procedures and separation standards.

—If large turbine-powered aircraft are vectored or descended outside the Class B airspace, controllers must advise pilots when leaving and re-entering the airspace. This contributes to increased controller workload as well as radio transmission congestion.

—At times, controllers must keep arrivals above their normal descent profiles in order to contain them within Class B airspace. This negates the benefits of optimized profile descents and is detrimental to newer aircraft types that require longer/shallower descent profiles in order to dissipate energy during the descent.

—Aircraft on downwind leg being vectored to Runway 30 often times exit the Class B airspace during busy arrival and departure times, due to the spacing procedures required when conducting Converging Runway Operations.

—Large turbine-powered aircraft may be placed in areas where non-participating aircraft may be operating.

—When simultaneous approaches to Runways 9 and 8L/R are in progress, the requirement to remain at 5,000 feet MSL requires controllers to have pilots expedite their descent from 5,000 feet MSL to 3,000 feet MSL, which the aircraft landing on Runway 9/27 must reach before turning onto the base leg.

—The limitations imposed by these existing 5,000 foot MSL and 4,000 foot MSL Class B airspace area floors requires controllers to vector aircraft on close-in downwind legs and/or restrict their altitudes to contain them in the Class B, thus increasing the possibility of unstable approaches.

Proposed Changes to the MIA Class B Airspace Area

To improve the flow of air traffic, enhance safety, and reduce the potential for midair collision in the MIA terminal area, consistent with the directive to contain arriving and departing aircraft within Class B, the FAA is proposing a number of changes to the MIA Class B airspace configuration, including:

—Expanding the existing 20 nautical mile (NM) outer boundary of the MIA Class B airspace area to 25 NM east and west of MIA for containment of aircraft in MIA Class B airspace.

—Lowering the floor of MIA Class B airspace area from the current 5,000 feet MSL to 3,000 feet MSL in the area north of Miami Executive Airport (TMB); and from the current 4,000 feet MSL to 3,000 feet MSL in the area northwest of MIA.

An analysis of existing MIA traffic flow shows that the proposed MIA Class B airspace area modifications would enhance safety by containing instrument procedures within MIA Class B airspace area, and provide better segregation between instrument flight rules (IFR) aircraft arriving and departing MIA, and visual flight rules (VFR) aircraft operating in the vicinity of the MIA Class B airspace area. The MIA Class B airspace modifications proposed in this NPRM are intended to, in the most safe and efficient manner, expand Class B airspace area, where necessary, to contain large, turbine-powered aircraft while minimizing the impact on the use of the airspace by other aircraft.

Clarification of Terms

A review of comments received during the pre-NPRM public input phase revealed that some misunderstanding exists of several terms that apply to published VFR routes. The confusion has arisen because, over time, the terms have often been used interchangeably. Since the terms are used in this NPRM, the FAA is clarifying the meaning of these terms.

A VFR Corridor is airspace through a Class B airspace area with defined vertical and lateral boundaries in which a VFR aircraft may operate without an air traffic control (ATC) clearance or communication with ATC. A VFR Corridor is, in effect, a “tunnel” or “hole” through Class B airspace. Due to heavy traffic volume and the procedures necessary to manage the flow of traffic, it has not been possible to incorporate VFR Corridors in MIA Class B airspace areas.

A VFR Flyway is a general flight path, not defined as a specific course, for use by pilots planning flights into, out of, through, or near complex terminal airspace in order to avoid Class B airspace. An ATC clearance is not required to fly these routes. Where established, VFR Flyways are depicted on the reverse side of the VFR Terminal Area Chart (TAC). These routes are designed to assist pilots in planning flights under or around Class B airspace areas without actually entering Class B airspace.

A Class B Airspace Area VFR Transition Route is a route depicted on a TAC to accommodate VFR aircraft transiting through a Class B airspace area. The route includes a specific flight course and specific ATC-assigned altitudes. Pilots must obtain an ATC clearance prior to entering Class B airspace on the route.

See the Aeronautical Information Manual (AIM) for more details about these routes.

Airport Location Identifiers

For ease of reference, the following airport identifiers are used in this NPRM:

FLL Fort Lauderdale/Hollywood International Airport

FXE Fort Lauderdale Executive Airport

HST Homestead Air Reserve Base

HWO North Perry Airport

MIA Miami International Airport

TMB Miami Executive Airport (formerly Miami, Kendall-Tamiami Executive Airport)

TNT Dade-Collier Training and Transition Airport

X51 Miami Homestead General Aviation Airport

Pre-NPRM Public Input

In 2010, the FAA formed an Ad Hoc Committee (Committee) to seek input and recommendations from representatives of affected aviation segments for the FAA to consider in designing proposed modifications to the MIA Class B airspace area. At that time, the FAA was considering a proposal that would expand the MIA Class B airspace area as well as convert the Fort Lauderdale/Hollywood International Airport (FLL) Class C airspace area to a Class B airspace area. Participants in the Committee included representatives from the Aircraft Owners and Pilots Association (AOPA), Miami-Dade Aviation Department, Miami-Dade Police Department Aviation Unit, Florida DOT, Broward County Aviation Department, Opa-Locka Helicopters, ADF Airways, Sheltair Aviation, National Jets, Aerial Banners, Delta Connection, Florida Aero Club, and Van Wagner Aerial Media.

Discussion of Ad Hoc Committee Recommendations

On September 1, 2010, the Committee submitted three recommendations for the FAA to consider in designing proposed modifications of the MIA and FLL airspace.

The Committee recommended that the FAA align the boundaries of the MIA Class B airspace with prominent geographical features (visual landmarks) whenever possible.

The FAA agreed with the recommendation and, to the extent possible, adopted the use of geographical features in this proposal. However, areas that overlie the Atlantic Ocean and the Florida Everglades lack prominent landmarks. Currently, there are approximately 25 VFR checkpoints, 4 VFR waypoints, and 5 latitude/longitude points depicted on the VFR Flyway Planning Chart in the MIA/FLL area. The FAA is considering additional points to enhance VFR navigation in the area.

The Committee also recommended that the FAA establish a VFR Corridor between 3,000 feet MSL and 5,000 feet MSL that extends from the northern edge of FLL's airspace to the southern edge of MIA's airspace, to permit north-south transition of aircraft. The Committee suggested that this would be similar to the Los Angeles Special Flight Rules Area which traverses the Los Angeles Class B airspace area.

The FAA could not adopt this recommendation because VFR Corridors do not apply to Class C airspace areas. Separately, with regard to the specific proposed location, a VFR Corridor is not feasible for this area based on operational constraints such as traffic volume and traffic flows. MIA arrival traffic descends from 8,000 feet MSL to 3,000 feet MSL in the downwind leg. Departures climb to 5,000 feet MSL initially, and aircraft executing a go-around climb to either 3,000 feet MSL or 4,000 feet MSL. For FLL, arrivals descend from 6,000 feet MSL to 3,000 feet MSL in the downwind leg. Departures climb to 3,000 feet MSL initially, and aircraft executing a go-around climb to 2,000 feet MSL or 3,000 feet MSL. Since aircraft could operate in the corridor without an ATC clearance or communication with ATC, this would present a safety hazard.

Alternatively, currently there is a charted VFR Flyway below 3,000 feet MSL, running generally north and south, that is located beneath the western side of the MIA Class B airspace area. Additionally, an east-west oriented Flyway below 2,000 feet MSL is located to the south of Hollywood North Perry airport (HWO), and to the north of Miami-Opa Locka Executive airport (OPF).

The Committee recommended that the FAA develop “shoreline transitions” for VFR aircraft through the Class B airspace. Specifically, this would accommodate pilots who desire to operate over or near the shoreline east of FLL. The Committee added that the FAA should publish information on Sectional and TAC to advise aircraft requesting shoreline transitions to contact MIA approach; including frequencies, designated entry and exit points, expected altitudes, and times requests may be approved.

The FAA reviewed this recommendation and, although shoreline transitions do exist in the Miami area, the Fort Lauderdale-Hollywood International Airport runways are only 1 to 2 NM from the shoreline. Aircraft flying the Instrument Landing System approaches to Runways 28L and 28R are descending to the minimum approach altitudes in the vicinity of the shoreline, while aircraft departing on Runways 10L and 10R are in a critical phase of flight during initial climbout in that same area. For these reasons, a shoreline transition is not feasible in that area.

After full consideration of the Committee's discussions and recommendations, the FAA decided to pursue an alternative airspace design.

Informal Airspace Meetings

As announced in the Federal Register on December 4, 2012, the FAA conducted three informal airspace meetings: January 28, 2013, at the Wings Over Miami Air Museum, Miami, FL; January 29, 2013, at Miami Dade College, Miami, FL; and January 30, 2013, Miramar Town Center, Miramar, FL. (77 FR 71734). Additionally, as announced in the Federal Register on April 1, 2019, the FAA also held one informal airspace meeting on June 12, 2019, at Broward College, Pembroke Pines, FL. (84 FR 12146). These meetings provided interested airspace users with an opportunity to present their views and offer recommendations regarding the planned modification of the MIA Class B airspace area. The FAA received comments from 32 individuals in response to the four meetings.

Discussion of January 2013 Informal Airspace Meeting Comments

The FAA received a number of comments from the January 2013 meetings that pertained specifically to the proposed modification of the FLL Class C airspace area. Those comments will be addressed in a separate NPRM to be published by the FAA. Comments concerning the proposed modification of the MIA Class B airspace area are discussed below.

Several commenters were concerned about the proposed expansion of the western Class B boundary from the current 20 NM radius of MIA to the 25 NM radius. This would require northbound and southbound VFR pilots to fly farther out over the Everglades at relatively low altitudes (i.e., below 3,000 feet MSL) over “unlandable” terrain.

The FAA acknowledges these concerns. The proposed 25 NM radius on the west side of the Class B is based on an analysis of MIA traffic and is designed to contain MIA arrivals within Class B airspace. A northbound/southbound oriented charted VFR Flyway, below 3,000 feet MSL, has since been added closer in to MIA (inside the 20 NM radius). A good operating practice for VFR aircraft operating west of MIA is to contact MIA Approach for Class B clearance and flight following service above 3,000 feet MSL, which provides safety alerts and traffic advisories.

One commenter wrote that there should be a special route for aircraft transitioning to land at Miami Executive (TMB), OPF, North Perry (HWO), and Miami Homestead General Aviation (X51) airports.

As discussed above, the Committee had similar concerns about North-South transitions through the area. As previously noted, in addition to the North-South oriented charted VFR Flyway, an East-West oriented flyway has been charted situated north of OPF and south of HWO. This VFR Flyway connects to the North-South flyway. Use of these flyways should provide access to the four airports identified by the commenter.

One commenter suggested that, instead of making changes to the Class B boundaries to keep aircraft within Class B airspace, the glide path angle (GPA) for instrument approaches should be raised from 3.0 degrees to 3.25 degrees. The commenter added that, if increasing the GPA is unacceptable, the FAA should lower the floors of the Class B shelves using increments of 100 feet rather than 1,000 feet, and that lateral boundaries should be adjusted the minimum amount necessary.

The FAA does not agree. According to instrument approach procedure design criteria, the standard GPA is 3.00 degrees. A GPA greater than 3.00 degrees is authorized when needed for obstacle clearance purposes. Since obstacle clearance is not an issue, and south Florida terrain is virtually flat, all ILS and RNP procedures at MIA utilize a 3.00 degree GPA. The suggestion to lower the floors of the Class B shelves in 100-foot increments would provide additional complexity with no benefit as altitude assignments are in 500-foot increments for VFR, and 1,000-foot cardinal altitudes for IFR. The Class B lateral boundary adjustments are proposed for containment of aircraft within the Class B and are based on an analysis of traffic at MIA.

Four commenters expressed concern about the proposed expansion of the eastern boundary of Area F from a 6 NM radius to a 7 NM radius of MIA; and about the proposed expansion of the eastern boundary of Area B from the 10 NM radius to the 13 NM radius of MIA. Two commenters wrote that the expanded Area F, with its 1,000-foot floor would affect a scenic tourist route, therefore the Class B floor in that area should remain at 1,500 feet MSL. Two commenters objected to the expansion of Area B, with its 1,500-foot floor, into what is now the 3,000-foot floor of Area D. The commenters wrote that the Class B floor in that area should be set at 2,000 feet MSL instead of 1,500 feet MSL.

The FAA does not agree with the commenters. The objective of the proposed Class B modification is to provide the least restrictive, yet safe operation around MIA. The proposed floors for Areas B and F are needed to ensure that aircraft on final approach to MIA remain inside Class B airspace, and to separate non-participating aircraft from MIA arrivals. Aircraft on instrument approach are in descent below 3,000 feet MSL to 1,500 feet MSL at the Final Approach Fix (FAF) for Runway 26R; to 1,600 feet MSL at the FAF for Runway 26L and Runway 30; or 1,700 feet MSL at the FAF for Runway 27. Raising the proposed floor to 2,000 feet MSL, as suggested, would cause an unsafe situation between IFR aircraft arriving and departing MIA, and VFR aircraft. Pilots could elect to request a clearance through the Class B and receive separation services.

Several commenters were concerned that the proposed MIA Class B modifications would prevent the use of easily recognizable landmarks, and VFR checkpoints for identifying the Class B boundaries. Specifically, they were concerned that the ability to use Krome Avenue as a reference for the western boundary of the 1,500 foot shelf, and the use of the twin diagonal canals as the western boundary of the 3,000 foot shelf would be lost.

Unfortunately, Krome Avenue is not located far enough west to provide a safe distance from traffic landing at MIA when on an east operation. The proposed Class B floors are based on aircraft altitudes and approach procedures. Aircraft arriving at MIA begin final approach descent 9.0 NM from Runway 9 at the GRITT DME fix. The 1,500 foot Class B floor is necessary in that area to avoid conflict with non-participating aircraft. Landmarks could still be used if pilots desire to contact MIA Approach for clearance to enter the Class B airspace. Nevertheless, the FAA is considering the addition of waypoints to assist with VFR navigation.

One commenter asserted that ATC never clears pilots through Class B or Class C airspace, except for occasional direct overflights.

VFR clearances through the MIA Class B airspace are approved on occasion, based on traffic volume, weather, and controller workload. Because MIA is a busy international airport, averaging approximately 1,200 operations a day, it can be difficult to accommodate a VFR transition. Even so, some 75% of the approximately 7-8 requests received per day are approved. VFR Flyways around the MIA Class B have been published on the Miami VFR TAC chart to provide alternate routes. Also, in conjunction with the proposed changes to the MIA Class B airspace, the FAA is considering the addition of published VFR transitions and flyways to help enhance situational awareness. Additionally, VFR transitions are accommodated daily over FLL through the Class C airspace at 2,500 feet, or low-level along the shoreline, while in 2-way communication with ATC.

Several commenters explained that the proposed expansion of the Class B surface area (Area A) from the current 6 NM radius of MIA to a 7 NM radius would impact operations at Miami Executive Airport (TMB) bringing the Dadeland Shopping Center inside the Class B surface area. The commenter further noted that Dadeland Shopping Center is a charted VFR checkpoint that helps keep pilots clear of the Class B airspace, and it should remain outside the Class B.

The FAA agrees with the comments. Under the current proposal the southern boundaries of Areas A and F will be adjusted northward along an East-West line at latitude 25°42′18″ N (SW 72nd Street in the Cities of Sunset and South Miami). This would accommodate traffic transitioning to and from TMB, and keep the Dadeland Shopping Center outside the Class B airspace.

One commenter asked the FAA to consider designating charted “VFR transition corridors” both within and underneath the Class B airspace, to include VFR GPS named waypoints that would show up in navigation databases. The commenter suggested a Northeast-Southwest “corridor” through the Class B passing overhead MIA at 1,500 feet MSL (one way) and 2,000 feet MSL (opposite direction). The commenter suggested this change might reduce VFR congestion low along the coast. Another commenter suggested flyways be created for both VFR and IFR traffic whose destinations are within the South Florida area, to directly overfly MIA at 3,000 feet MSL to 5,000 feet MSL.

There currently exists a North-South oriented charted VFR Flyway west of MIA, below the 3,000-foot MSL Class B floor. Aircraft could not be accommodated over the top of MIA at 1,500 feet MSL and 2,000 feet MSL; or between 3,000 feet MSL to 5,000 feet MSL due to conflicts with existing traffic: Missed approach procedures climb to 3,000 feet MSL; initial departure altitudes from MIA are 5,000 feet MSL; and descending arrival traffic on the downwind portion of radar sequencing for the approach are typically descending from 8,000 feet MSL. When aircraft performance allows, aircraft could be cleared over the top of MIA at or above 5,500 feet MSL. The FAA will consider the addition of waypoints along VFR Flyways and the development of a VFR transition route.

One commenter questioned the need for Class B airspace in Area E northwest of MIA.

The FAA is not proposing any significant changes to the existing Area E. The area currently extends from 4,000 feet MSL to 7,000 feet MSL, between the 15 NM radius and the 20 NM radius of MIA, and bounded on the south by latitude 25°57′48″ N, and on the northeast by a line from latitude 26°05′56″ N, longitude 80°26′23″ W., to latitude 26°01′32″ N, longitude 80°23′40″W. The only proposed change is minor refinements to the coordinates that form the northeast side of Area E. Area E is needed to support operations when MIA is on an east operation. During those periods, MIA arrivals typically land on Runways 9 and 12, while departures normally use Runways 8L and 8R. Historically, wind conditions dictate operating on an east configuration approximately 65% of the year.

One commenter wrote about concerns that the Class B proposal would impact sailplane operations. Sailplanes often operate under the 5,000-foot Class B floor near TMB (i.e., the current Area G). The proposed incorporation of the airspace in the current Area G into Area D, with its 3,000-foot MSL floor, would affect these operations. The commenter asked if lowering the floor north of SW 152nd Street (approximately latitude 25°38′ N) would be adequate; or if a 4,000-foot MSL floor would be acceptable. The commenter also noted that the proposed extension of the western boundary of Area D, with its 3,000-foot MSL floor, from the current 20 NM radius of MIA, out to the 25 NM radius of MIA, would probably preclude cross-country flights by sailplanes from Miami Homestead General Aviation Airport (X51). The commenter suggested using a 4,000-foot MSL floor from 20 NM to 25 NM in that area.

After reviewing the proposed Class B configuration, the FAA will adopt the commenter's suggestion in proposal. The western limit of Area D will remain at the current 20 NM radius of MIA. The FAA proposes to establish a new Area J to the west of Area D between the 20 NM and 25 NM radii of the airport. Area J would extend from 4,000 feet MSL up to 7,000 feet MSL. This change would provide additional airspace for aircraft transiting over the Everglades.

One commenter contended that the proposed extension of the east and west Class B boundaries to 25 NM seems excessive.

The FAA does not agree. Each Class B airspace area is designed based on location-specific operational and safety considerations in order to best meet the purposes of reducing the midair collision potential, containment of instrument procedures, and enhancing the efficient use of airspace. It is not unusual for Class B floors to be as low as 3,000 feet MSL between 25 NM and 30 NM from the airport. For example, at the Orlando International Airport (MCO) the Class B floor is 3,000 feet MSL between the 20 NM and 30 NM arcs south of the airport; while at the Memphis International Airport (MEM), the Class B floor is 3,000 feet MSL between the 16 NM and 30 NM arcs to the north and south of the airport. The proposed altitudes for the MIA Class B floors are based on a traffic analysis of aircraft altitudes and approach procedures at MIA.

One commenter wrote that, on the east side of the Class B, VFR pilots flying to and from the Bahamas will have to delay their climb, or accelerate their descent while flying in areas well beyond power-off gliding distance to shore, or divert several miles further south to remain clear of the Class B.

VFR pilots have the option to contact MIA Approach and request flight following. If they choose not to receive flight following and want to remain clear of the Class B, the proposed airspace modification will help ensure they are segregated from traffic operating at MIA.

One commenter contended that the proposed extension of the western Class B boundary to 25 NM (with the floor at 3,000 feet MSL), in the southwest portion of the Class B (south of Tamiami Trail) will concentrate heavy VFR traffic between 2,000 feet MSL and 3,000 feet MSL as pilots attempt to remain 2,000 feet above the Everglades National Park Special Conservation/Wildlife Area, but below the 3,000-foot Class B floor. Additionally, VFR traffic will also tend to be concentrated between the Class E airspace at Dade-Collier Training and Transition Airport (TNT) and the new western boundary of the MIA Class B airspace.

The FAA does not agree. The FAA has established a north-south charted VFR flyway below the 3,000-foot Class B floor to the west of MIA. The flyway should enable pilots to fly beneath the Class B and avoid having to deviate farther out over the Everglades or near TNT.

One commenter stated that VFR routes through Class B airspace are not generally available on Sectional Charts or on most electronic charting and navigation applications. The commenter suggested that most itinerant pilots will be unaware of them as they appear only on the flip side of TAC.

It is correct that VFR Flyways are depicted on the reverse side of TAC. However, regardless of the navigation information sources used, part 91 “General Operating and Flight Rules” requires that, before beginning a flight, pilots shall become familiar with all available information concerning that flight. This is particularly important when planning a flight through the congested, high traffic volume South Florida area. The Miami Sectional Chart contains a note that reads: “Pilots are encouraged to use the Miami VFR Terminal Area Chart for flights at or below 7,000 feet”.

One commenter was concerned that the airspace configurations in South Florida are already very congested and confusing.

The FAA agrees that the airspace configurations in South Florida are very congested and careful vigilance must be maintained. In addition to the air traffic operations at MIA, within the roughly 40 NM stretch between HST and FLL, there are six airports with significant operations, plus extensive flight training and general aviation activity. The design of the MIA Class B is intended to contain large turbine-powered aircraft operations at MIA, and segregate those operations from non-participating VFR traffic while at the same time providing the least restrictive, safe operation in the Miami area.

Another commenter said multiple airspace designations are confusing and need to be corrected or clarified. Specifically, the ceiling of the TMB Class D airspace area is 2,500 feet MSL which is higher than the 2000-foot floor of the MIA Class B airspace (i.e., Area C of the MIA Class B airspace area) that overlies a portion of the TMB Class D. The commenter suggested that confusion could exist as to which rules apply.

The Aeronautical Information Manual (AIM) clarifies this issue stating that there is a hierarchy of overlapping airspace designations. When overlapping airspace designations apply to the same airspace, the operating rules associated with the more restrictive airspace designation apply. Therefore, Class B rules apply in the example described by the commenter.

For simplification, a commenter suggested that the “half-moon shaped” Class B airspace area with the 2,000-foot MSL north of TMB (i.e., Area C) be removed and the Class B floor in that area be lowered to 1,500 feet MSL.

The FAA does not agree with this suggestion. The design of each Class B airspace is individually tailored, in this case, for MIA operations. To lower the Class B floor for simplification as suggested is neither warranted nor appropriate. The 2,000-foot MSL floor in Area C is for the benefit of traffic at TMB. It allows aircraft remaining below 2,000 feet MSL northeast of TMB to remain clear of the MIA Class B airspace.

To simplify the MIA Class B airspace, a commenter proposed that the northern portion of Area D (north of latitude 25°57′48″ N) be removed from the MIA Class B airspace area and made part of the FLL Class C airspace area. This would simplify airspace design and make easier transitions inbound and outbound from HWO.

The FAA is unable to modify Area D as suggested. This airspace must remain in the Miami Class B because it was designed to contain aircraft once they enter the Class B airspace, such as aircraft arriving Runway 12 at MIA. Removing that airspace from the Miami Class B is not feasible and would be detrimental to safety.

One commenter stated that the proposed extension of Class B airspace and dropping of the base to the East and South would increase noise pollution over residential areas.

The objective of this proposed airspace modification is to provide the least restrictive operation while maintaining safety. The southeast extension of Class B airspace to 25 NM east based upon traffic analysis and is needed to contain aircraft within Class B airspace. The proposed modifications to the east of MIA are over the Atlantic Ocean and have limited impact to residential areas.

June 2019 Informal Airspace Meeting Comments

Over 60 people attended the June 2019 Informal Airspace Meeting. Ten persons submitted multiple comments to the FAA. A number of comments pertained specifically to the proposed FLL Class C airspace modification. Those comments will be addressed in a separate NPRM that will propose modifications to the FLL Class C airspace area. Comments pertaining to the proposed MIA Class B modification are discussed below.

Two commenters expressed concerns that receiving VFR flight following in the area can be challenging due to air traffic controller workload, and that consideration should be given to adequate staffing to provide this additional service routinely.

The airspace change would affect the Miami Terminal Radar Approach Control (TRACON) controller workload with the anticipated increase of aircraft requesting flight following. The FAA has already taken action to address this concern. The FAA has increased the utilization of its additional radar sectors that provide relief for controllers working in the OPF/HWO area. These additional sectors split the workload in half (east side and west side). The FAA also recommends that pilots consider obtaining discrete squawk codes with air traffic control towers prior to departure to ensure that flight following in VFR conditions can commence shortly after departure.

Two commenters requested that VFR Corridors be provided through the MIA Class B airspace; such as, along the coast, and over the top of airports. Flying around the airspace to the west places an aircraft over the Everglades and far from alternative landing sites.

As described above in the “Clarification of Terms” section, a VFR Corridor is essentially a “hole” through the Class B airspace in which aircraft can operate without an ATC clearance or communication with air traffic control. Such a corridor is not feasible through the MIA Class B based on operational constraints, including traffic volume and traffic flows and the close proximity of numerous airports in this area. Arrival traffic descends from 8,000 feet MSL to 3,000 feet MSL in the downwind for MIA. Departures climb to 5,000 feet initially, and aircraft executing a go-around climb to either 3,000 feet MSL or 4,000 feet MSL. For operational and safety reasons, these factors preclude the establishment of a VFR corridor. However, the FAA is considering the development of a published VFR transition route for use when it is feasible for controllers to clear an aircraft into the airspace to transition the area. VFR transition routes require an ATC clearance prior to entering Class B airspace on the route (see the “Clarification of Terms” section, above). Currently, a VFR Flyway is depicted on the VFR Flyway Planning Chart (on the reverse side of the Miami TAC Chart). This VFR Flyway is oriented North-South and is located under the western side of the MIA Class B airspace area. The suggested altitude for the flyway is below 3,000 feet MSL. The VFR Flyway offers an alternative to deviating farther west around the Class B over the Everglades.

One commenter asked that the FAA reconsider the proposal to expand the surface area (Area B) because many small planes use that space to avoid intruding on arriving and departing aircraft in the Class B.

The FAA is proposing to expand Area B from the current 6 NM radius of MIA to a 7 NM radius of MIA. The one NM expansion of Area B is necessary to ensure containment of arriving aircraft within Class B airspace. Currently, arrivals briefly exit, then re-enter Class B airspace on final approach. FAA directives require that Class B airspace be designed to contain all instrument procedures within Class B airspace, and that surface areas must encompass all final approach fixes and minimum altitudes at those fixes. Therefore, the proposed 7 NM radius is required to comply with the containment criteria.

One person submitted a comment regarding the Florida Metroplex Project. The comment is outside the scope of this MIA Class B rulemaking action. This comment was referred to the Florida Metroplex Team for review.

One person commented that the FAA should publish Letters of Agreement (LOA) that are developed between ATC facilities and make them easy to access.

As an initial matter, this comment falls outside the scope of this rulemaking. Moreover, LOAs between ATC facilities outline procedures between facilities to allow for a standard operation, such as interfacility coordination, etc. LOAs do not dictate procedures that pilots who are not operating under ATC instructions need to follow. Because LOAs outline the handling of aircraft and interaction between ATC facilities, they are not made readily available to pilots. Whenever a pilot is uncertain about an ATC clearance or instruction, that pilot must immediately request clarification from ATC.

Two persons commented on the Class D airspace ceiling at satellite airports that underlie a Class B or Class C airspace shelf. In such cases, the Class D altitude ceiling might overlap into the overlying Class B or Class C airspace. The commenters said that the ceiling of the Class D airspace should be consistent with the floor of the overlying Class B or Class C airspace. This would assist pilots with awareness of the airspace and avoiding airspace violations by mistake.

As described previously, the Aeronautical Information Manual states that, when overlapping airspace designations apply, the operating rules associated with the more restrictive airspace designation apply. This is applicable in the case of the TMB Class D airspace (with a ceiling of 2,500 feet MSL). Area C of the MIA Class B airspace, which has a floor of 2,000 feet MSL, overlaps a portion of the TMB Class D airspace. Therefore, Class B operating rules apply in that overlapping portion. The proposed modifications to the MIA Class B airspace would also incorporate the airspace above the remainder of the TMB Class D into an expanded MIA Class B Area D with its Class B floor of 3,000 feet MSL. In this case, Class E airspace would exist in the gap between the 2,500 foot ceiling of the Class D airspace, and the overlying 3,000 foot floor of Class B airspace. These configurations are not unique to the MIA Class B airspace and can be found at other Class B locations in the United States. It is incumbent upon the pilot to become familiar with the airspace configuration when planning a flight.

Other commenters requested the FAA to incorporate a combination of GPS waypoints and recognizable ground features as VFR landmarks (such as the Dadeland Shopping Mall) into the airspace design to assist pilots in determining the Class B boundaries.

The FAA agrees with these comments and incorporated several updates into the proposal. The following are examples ground references added to the proposed Class B description:

In Area A (surface area), instead of the southern portion of the area being defined by the proposed 7 NM radius, the southern boundary would be moved northward to lat. 25°42′18″ N, along SW 72nd Street in the cities of Sunset and South Miami. This would keep the Dadeland Shopping Mall outside the surface area, allowing VFR aircraft to have continued use of that established check point for arrivals and departures out of the TMB area.

In Area B, the western boundary would be moved from the current 10 NM radius of MIA slightly westward to run along Krome Avenue, providing pilots with a visual reference for that boundary.

In the proposed new Area G (that airspace currently designated Area H), the northwestern boundary would be aligned with State Road 997/Krome Avenue. The Eastern boundary would be defined by the Miami Canal (paralleling US 27), and the Northern boundary point defined by the intersection of the Miami Canal and State Road 997/Krome Ave. The eastern boundary of the proposed new Area H would be defined by State Road 997/Krome Avenue. Aligning these boundaries with streets and other ground references should assist pilots with visual identification of the boundaries. The FAA is also considering the addition of waypoints to enhance pilot navigation in the MIA/FLL terminal area.

One commenter was concerned about the impact on sailplane operations from Miami Homestead General Aviation Airport (X51). Sailplane operations routinely use the airspace overlying TMB up to 4,000 feet MSL. The proposed lowering of the Class B floor to 3,000 feet MSL overlying TMB would inhibit operations. The commenter suggested a 4,000 foot Class B floor in that area instead.

Consideration was given to keeping the Class B floor over TMB unchanged. However, due to the recurrence of aircraft exiting the current MIA Class B either while on the downwind, on departure during a west operation, on vectors after a go-around event, or while on an instrument approach, the change is necessary to comply with the requirement to contain instrument procedures within Class B airspace.

One commenter requested the FAA to form a new Ad Hoc Committee to provide updated recommendations regarding the proposed airspace design.

The FAA originated the Ad Hoc Committee concept as a means to get preliminary user input during the initial design phase of Class B and C airspace proposals, prior to the issuance of an NPRM.

The FAA carefully considered the request to form a second Ad Hoc Committee. After full consideration of the Committee's concerns and recommendations, including the Committee's stated desire that the FAA mitigate the impact to operators outside the Class B, and improve the design originally presented to the Committee, the FAA re-evaluated the airspace design requirements for the airspace surrounding MIA and FLL. Based on that re-evaluation, the FAA will pursue an alternative design. Instead of establishing Class B airspace at FLL, the FAA decided to retain, but modify the Class C at FLL, as well as modifying the MIA Class B. This would result in less impact to the VFR and general aviation community.

Based on the above, the FAA concluded that sufficient feedback was received so that FAA could develop and publish the airspace proposal in an NPRM. The NPRM's 60-day comment period provides additional opportunity for the public to submit their views on the proposed MIA Class B airspace modification. Therefore, the FAA has decided against reforming an Ad Hoc Committee for this proposal.

The Proposal

The FAA is proposing an amendment to 14 CFR part 71 to modify the Miami International Airport, FL, (MIA) B airspace area. This action (depicted on the attached graphic) would modify the lateral and vertical limits of Class B airspace to ensure the containment of large turbine-powered aircraft at MIA in Class B airspace once they enter the airspace, and enhance safety in the Miami terminal area.

The FAA will be issuing a separate NPRM to propose modifications to the Fort Lauderdale-Hollywood International Airport (FLL) Class C airspace area that is located immediately to the north of the MIA Class B airspace area.

The proposed modifications to the MIA Class B airspace area are discussed below.

In the text header of the MIA Class B airspace description, (as published in FAA Order 7400.11E), the geographic coordinates for MIA would be updated to read “lat. 25°47′43″ N, long. 080°17′24″ W” The name of the “Kendall-Tamiami Executive Airport” would be changed to its current name “Miami Executive Airport,” and its geographic coordinates would be updated to read “lat. 25°38′51″ N, long. 080°25′59″ W” These changes reflect the current National Airspace System Resources database information.

Area A. Area A would continue to extend upward from the surface to 7,000 feet MSL. The FAA proposes to modify Area A by expanding the current 6 nautical mile (NM) radius to a 7 NM radius of the MIA International Airport. This would resolve issues where aircraft exit and re-enter Class B airspace on final approach. Area A would also be modified by excluding that airspace “South of lat. 25°42′18″ N (SW 72nd Street in the cities of Sunset and South Miami).” This would move the southern boundary of the surface area north of the Dadeland Shopping Center keeping it outside the surface area, and allowing VFR aircraft to have continued use of that charted VFR checkpoint for arrivals and departures out of the TMB area.

Area B. Area B extends from 1,500 feet MSL to 7,000 feet MSL. The FAA proposes to modify Area B by extending the current eastern boundary from the 10 NM radius of MIA out to the 13 NM radius of the airport. This change would both contain MIA arrivals within Class B airspace, and provide protection for VFR aircraft transitioning under the Class B airspace. Additionally, the western boundary of Area B would be moved from the current 10 NM radius of MIA slightly westward to run along Krome Avenue, providing pilots with a visual reference for that boundary. To assist with visual identification of the northern boundary of Area B (along lat. 25°53′03″ N), the street reference “NW 103rd Street/49th Street in the City of Hialeah” would be added to the description.

Area C. Area C extends from 2,000 feet MSL to 7,000 feet MSL. The only proposed change to this area is to extend the boundary formed by the existing 4.3 NM radius of TMB southwestward (counterclockwise) to intersect the western boundary of the new Area H (i.e., the 13 NM radius of MIA), as described below.

Area D. Area D extends from 3,000 feet MSL to 7,000 feet MSL. Originally, the FAA proposed to expand Area D's western boundary from the current 20 NM radius west of MIA, further westward to the 25 NM radius of MIA. Based on comments received, the FAA decided to retain the western boundary of Area D at the current 20 NM radius of MIA. The FAA proposes to establish Area J (west of Area D, described below) between the 20 NM and 25 NM radii of MIA. Area J would extend from 4,000 feet MSL to 7,000 feet MSL, providing additional altitudes for transiting aircraft. The FAA further proposes to incorporate that airspace above TMB, that is currently designated “Area G,” into Area D. The existing Area G extends from 5,000 feet MSL to 7,000 feet MSL. Incorporating this airspace into Area D would lower the floor of Class B airspace in that area to 3,000 feet MSL. This change would protect southbound departures from MIA during a west operation. The “Area G” designation would be reused elsewhere in the MIA Class B as described later.

Area E. The only proposed change to Area E is minor updates to the latitude/longitude coordinates that define the northeast side of the area for greater accuracy.

Area F. Area F extends from above 1,000 feet MSL to 7,000 feet MSL. The eastern boundary of Area F would be extended from the current 6 NM radius of MIA out to the 7 NM radius of MIA. The south end of Area F would be moved slightly northward to lat. 25°42′18″ N to align with the proposed new southern boundary of Area A.

Area G. A new Area G would be designated in that airspace west of OPF that is currently designated Area H (the H designation would be reused as described below). The northwestern boundary of the existing Area H is the 10 NM radius from MIA. In the proposed new Area G, this boundary would be expanded further to the northwest to align with State Road 997/Krome Avenue. The new Area G would consist of that airspace extending upward from 2,000 feet MSL to and including 7,000 feet MSL, bounded on the South by lat. 25°52′03″ N (NW 103rd Street/49th Street in the City of Hialeah), on the West and Northwest by State Road 997/Krome Ave, on the East by the Miami Canal (paralleling US 27), and the Northern boundary point defined by the intersection of the Miami Canal and State Road 997/Krome Ave. Aligning boundaries with streets and other ground references would assist with visual identification of the boundaries.

Area H. Area H is a proposed new area that would extend from 2,000 feet MSL to 7,000 feet MSL. It would be located directly west of the Area B western boundary. Area H would be bounded on the east by State Road 997/Krome Avenue; on the south by the 4.3 NM radius of TMB (the northern boundary of Area C); and on the west by the 13 NM radius of MIA. Area H would provide containment of MIA arrivals in Class B airspace. Its base altitude of 2,000 feet MSL, and the visual reference provided by Krome Avenue, would allow VFR aircraft to transition just west of Krome Avenue below 2,000 feet MSL without conflicting with MIA arrivals.

Area I. The FAA proposes to establish a new Area I, located east of MIA between the 20 NM and 25 NM radii from the airport. Area I would extend from 5,000 feet MSL to 7,000 feet MSL. The area would be bounded by that airspace beginning at the intersection of lat. 25°57′48″ N and the 20 NM radius of MIA, thence moving East along lat. 25°57′48″ N to the intersection of a 25 NM radius of MIA, thence moving clockwise along the 25 NM radius to the Dolphin VORTAC 151°(T)/155°(M) radial, thence Northwest along the Dolphin VORTAC 151°(T)/155°(M) radial to the intersection of a 20 NM radius of MIA, thence counter-clockwise along the 20 NM radius to the point of beginning. This expansion is needed to contain aircraft on the downwind within Class B airspace. The 5,000 foot MSL base altitude of Area I gives VFR aircraft transitioning the area over water the ability to fly under the Class B airspace.

Area J. The FAA proposes to establish a new Area J located west of MIA between the 25 NM and 20 NM radii from the airport. Area J would extend from 4,000 feet MSL to 7,000 feet MSL. The area would be bounded by that airspace beginning northwest of MIA at the intersection of a 25 NM radius of Miami International Airport and lat. 25°57′48″ N, thence east along lat. 25°57′48″ N to the intersection of a 20 NM radius of Miami International Airport, thence counter-clockwise along the 20 NM radius to lat. 25°40′19″ N, thence west along lat. 25°40′19″ N to the intersection of a 25 NM radius of Miami International Airport, thence clockwise along the 25 NM radius to the point of beginning.

In summary, the existing MIA Class B airspace design does not currently address the rapidly increasing general aviation and air carrier operations in the South Florida terminal area. The proposed Class B modification would provide:

—Containment of MIA arrivals and departures in Class B airspace;

—Increased safety by segregation of large turbine-powered aircraft from nonparticipating traffic during critical stages of flight;

—Improved utilization of airspace;

—Improved traffic patterns that allow for stabilized approaches;

—Reduced workload for both pilots and controllers; and,

—Enhanced overall efficiency of the movement of air traffic in the area.

Note: A color graphic of the proposed MIA Class B airspace will be sent for posting on the regulations.gov website (https://www.regulations.gov) following the publication of this NPRM in the Federal Register. Use the search term FAA-2020-0490.

Class B airspace areas are published in paragraph 3000 of FAA Order 7400.11E, dated July 21, 2020, and effective September 15, 2020, which is incorporated by reference in 14 CFR 71.1. The Class B airspace proposed in this document would be published subsequently in the Order.

FAA Order 7400.11, Airspace Designations and Reporting Points, is published yearly and effective on September 15.

Paperwork Reduction Act

The Paperwork Reduction Act of 1995 (44 U.S.C. 3507(d)) requires that the FAA consider the impact of paperwork and other information collection burdens imposed on the public. We have determined that there is no new information collection requirement associated with this proposed rule.

Regulatory Notices and Analyses

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

In conducting these analyses, the FAA has determined that this proposed rule: (1) Is expected to have a minimal cost impact, (2) is not an economically “significant regulatory action” as defined in section 3(f) of Executive Order 12866, (3) is not significant under DOT's administrative procedure rule on rulemaking at 49 CFR 5.13; (4) not have a significant economic impact on a substantial number of small entities; (5) not create unnecessary obstacles to the foreign commerce of the United States; and (6) not impose an unfunded mandate on state, local, or tribal governments, or on the private sector by exceeding the threshold identified above. These analyses are summarized below.

As discussed above, the FAA determined that changes put forth in this proposed rule would increase airspace safety and efficiency. The proposed rule would modify the lateral and vertical limits of Class B airspace around Miami International Airport (MIA) impacting commercial and general aviation flights transiting the airspace at the time of writing. The proposed modification is in response to increased commercial and general aviation activity at and near MIA airport at the time of writing. Currently, MIA Class B airspace does not fully contain aircraft flying instrument procedures at MIA. Aircraft routinely exit and re-enter MIA Class B airspace on final approach to MIA leading to safety issues with respect to flight separation between participating and non-participating aircraft outside of Class B airspace.

The modifications proposed in this NPRM are intended only to expand Class B airspace, where necessary, to contain large, turbine-powered aircraft while minimizing the impact on the use of the airspace by other aircraft. An analysis of existing MIA traffic flows shows that the proposed Class B airspace modifications would better contain IFR flights arriving and departing MIA inside Class B airspace, and provide better separation between IFR aircraft and VFR aircraft operating in the vicinity of the Class B airspace area. Constructing sufficient airspace for safe control and separation of IFR flights improves the flow of air traffic, and more importantly enhances safety, reducing the potential for midair collision in the MIA terminal area.

The proposed expansion to Class B airspace would affect the VFR and general aviation community. VFR operators would need to adjust their routes for the modified MIA Class B airspace. However, as mentioned above, the FAA initiated outreach between 2010 and 2019 for input and recommendations from the effected aviation community on the planned modifications to the MIA airspace. The feedback resulted in changes to the airspace design with the intent of maintaining safety and minimizing the impact to operators using the surrounding airspace. Additionally, VFR operators can use the current north-south charted VFR Flyway below the 3,000-foot Class B floor to the west of MIA, which enables pilots to fly beneath the Class B, or contact MIA Approach to request flight following, if desired, to lessen the impact. Therefore, the FAA expects the Class B modifications in this proposal would result in minimal cost to VFR operators. The FAA requests comments on the benefits and costs of this proposal to inform the final rule.

The discussion presented in this section reflects conditions that predate the public health emergency concerning the novel coronavirus disease (COVID-19) in 2020. At the time of writing, there is uncertainty surrounding the timing of recovery and the long-term effects from the public health emergency. To the extent that there are lingering or lasting changes to general aviation and air carrier operations, the benefits and costs of the MIA Class B airspace modification in this proposal may vary relative to the level of future operations.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

The proposed rule would modify Class B airspace around MIA. The change would affect general aviation operators using the airspace at or near MIA. Operators flying VFR would need to adjust their flight paths to avoid the modified Class B airspace. However, the modifications to Class B airspace are intended to be the least restrictive option while maintaining safety. Additionally, VFR operators can also use the current north-south charted VFR flyway below the 3,000-foot Class B floor to the west of MIA, which enables pilots to fly beneath the Class B or VFR pilots have the option to contact Miami Approach and request flight following, if desired. Therefore, as provided in section 605(b), the head of the FAA certifies that this rulemaking would not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would improve safety and is consistent with the Trade Agreements Act.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in lieu of $100 million. This proposed rule does not contain such a mandate; therefore, the requirements of Title II of the Act do not apply.

ICAO Considerations

As part of this proposal relates to navigable airspace outside the United States, this notice is submitted in accordance with the International Civil Aviation Organization (ICAO) International Standards and Recommended Practices.

The application of International Standards and Recommended Practices by the FAA, Office of Policy, Rule and Regulations Group, in areas outside the United States domestic airspace, is governed by the Convention on International Civil Aviation. Specifically, the FAA is governed by Article 12 and Annex 11, which pertain to the establishment of necessary air navigational facilities and services to promote the safe, orderly, and expeditious flow of civil air traffic. The purpose of Article 12 and Annex 11 is to ensure that civil aircraft operations on international air routes are performed under uniform conditions.

The International Standards and Recommended Practices in Annex 11 apply to airspace under the jurisdiction of a contracting state, derived from ICAO. Annex 11 provisions apply when air traffic services are provided and a contracting state accepts the responsibility of providing air traffic services over high seas or in airspace of undetermined sovereignty. A contracting state accepting this responsibility may apply the International Standards and Recommended Practices that are consistent with standards and practices utilized in its domestic jurisdiction.

In accordance with Article 3 of the Convention, state-owned aircraft are exempt from the Standards and Recommended Practices of Annex 11. The United States is a contracting state to the Convention. Article 3(d) of the Convention provides that participating state aircraft will be operated in international airspace with due regard for the safety of civil aircraft. Since this action involves, in part, the designation of navigable airspace outside the United States, the Administrator consulted with the Secretary of State and the Secretary of Defense in accordance with the provisions of Executive Order 10854.

The Department of State responded with no objection to the proposed expansion of the Miami Class B airspace area. The Department of Defense Policy Board on Federal Aviation (PBFA) concurred with comment. The PBFA noted concerns that extending these areas into international airspace places additional restrictions and equipage requirements on aircraft transiting therein; and such ATC expansions could set a precedent for foreign nations to exert more restrictive control measures in other international airspaces without limits to lateral confines, in the interest of commerce and safety.

Environmental Review

This proposal will be subject to an environmental analysis in accordance with FAA Order 1050.1F, “Environmental Impacts: Policies and Procedures” prior to any FAA final regulatory action.

Executive Order 13771, Reducing Regulation and Controlling Regulatory Costs

This proposed rule is not an Executive Order 13771 regulatory action because this proposal is not significant under Executive Order 12866.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of the FAA Order 7400.11E, Airspace Designations and Reporting Points, dated July 21, 2020, and effective September 15, 2020, is amended as follows:

Paragraph 3000 Subpart B—Class B Airspace.

* * * * *

ASO FL B Miami, FL

Miami International Airport (Primary Airport)

(Lat. 25°47′43″ N, long. 080°17′24″ W)

Miami Executive Airport (TMB)

(Lat. 25°38′51″ N, long. 080°25′59″ W)

Dolphin VORTAC (DHP)

(Lat. 25°48′00″ N, long. 080°20′57″ W)

Boundaries.

Area A. That airspace extending upward from the surface to and including 7,000 feet MSL within a 7 nautical mile radius of Miami International Airport, excluding that airspace North of lat. 25°52′03″ N (NW 103rd Street/49th Street in the City of Hialeah), and the airspace South of lat. 25°42′18″ N (SW 72nd Street in the Cities of Sunset and South Miami), and within and underlying Area F described hereinafter.

Area B. That airspace extending upward from 1,500 feet MSL to and including 7,000 feet MSL within a 13 nautical mile radius of Miami International Airport, excluding that airspace North of lat. 25°52′03″ N (NW 103rd Street/49th Street in the City of Hialeah), and that airspace South of lat. 25°40′19″ N, within Area A previously described, and within Areas C, F, and H described hereinafter.

Area C. That airspace extending upward from 2,000 feet MSL to and including 7,000 feet MSL within an area bounded on the North and Northeast by a 4.3 nautical mile radius of Miami Executive Airport (TMB), and on the South by lat. 25°40′19″ N, and on the Southwest by a 13 nautical mile radius of Miami International Airport.

Area D. That airspace extending upward from 3,000 feet MSL to and including 7,000 feet MSL beginning Northwest of Miami International Airport at the intersection of a 20 nautical mile radius of Miami International Airport and lat. 25°57′48″ N, thence East along lat. 25°57′48″ N to the intersection of a 15 nautical mile radius of Miami International Airport, thence clockwise along the 15 nautical mile radius to lat. 25°57′48″ N, thence East along lat. 25°57′48″ N to the intersection of a 20 nautical mile radius of Miami International Airport, thence clockwise along the 20 nautical mile radius to the Dolphin VORTAC (DHP) 151° radial, thence Northwest along the Dolphin VORTAC (DHP) 151° radial to the intersection of a 15 nautical mile radius of Miami International Airport, thence clockwise along the 15 nautical mile radius of Miami International Airport to lat. 25°40′19″ N, thence West along lat. 25°40′19″ N to the intersection of a 20 nautical mile radius of Miami International Airport, thence clockwise along the 20 nautical mile radius to the point of beginning, excluding the airspace within Areas A, B, and C, previously described and within Areas F, G, and H described hereinafter.

Area E. That airspace extending upward from 4,000 feet MSL to and including 7,000 feet MSL bounded on the South by lat. 25°57′48″ N, on the Northwest by a 20 nautical mile radius of Miami International Airport, on the Northeast by a line from lat. 26°06′02″ N, long. 80°26′27″ W, to lat. 26°01′38″ N, long. 80°23′44″ W, and on the Southeast by a 15 nautical mile radius of Miami International Airport.

Area F. That airspace extending upward from but not including 1,000 feet MSL to and including 7,000 feet MSL bounded on the East by a 7 nautical mile radius of Miami International Airport, on the West by the West shoreline of Biscayne Bay, and on the South by lat. 25°42′18″ N (SW 72nd Street in the Cities of Sunset and South Miami).

Area G. That airspace extending upward from 2,000 feet MSL to and including 7,000 feet MSL bounded on the South by lat. 25°52′03″ N (NW 103rd Street/49th Street in the City of Hialeah), on the West and Northwest by State Road 997/Krome Ave, on the East by the Miami Canal (paralleling US 27), and the Northern boundary point defined by the intersection of the Miami Canal and State Road 997/Krome Ave.

Area H. That airspace extending upward from 2,000 feet MSL to and including 7,000 feet MSL bounded on the West by a 13 nautical mile radius of Miami International Airport, on the South by a 4.3 nautical mile radius of Miami Executive Airport (TMB), on the East by State Road 997/Krome Ave, and on the North by a line along lat. 25°52′03″ N (NW 103rd Street/49th Street in the City of Hialeah).

Area I. That airspace extending upward from 5,000 feet MSL to and including 7,000 feet MSL bounded beginning at the intersection of lat. 25°57′48″ N and a 20 nautical mile radius of Miami International Airport, thence moving East along lat. 25°57′48″ N to the intersection of a 25 nautical mile radius of Miami International Airport, thence moving clockwise along the 25 nautical mile radius to the Dolphin VORTAC 151° radial, thence Northwest along the Dolphin VORTAC 151° radial to the intersection of a 20 nautical mile radius of Miami International Airport, thence counter-clockwise along the 20 nautical mile radius to the point of beginning.

Area J. That airspace extending upward from 4,000 feet MSL to and including 7,000 feet MSL beginning northwest of Miami International Airport at the intersection of a 25 nautical mile radius of Miami International Airport and lat. 25°57′48″ N, thence east along lat 25°57′48″ N to the intersection of a 20 nuatical mile radius of Miami International Airport, thence counter-clockwise along the 20 nautical mile radius to lat 25°40′19″ N, thence west along lat. 25°40′19″ N to the intersection of a 25 nautical mile radius of Miami International Airport, thence clockwise along the 25 nautical mile radius to the point of beginning.

* * * * *

Issued in Washington, DC, on February 22, 2021.
George Gonzalez,
Acting Manager, Rules and Regulations Group.

[FR Doc. 2021-03968 Filed 3-4-21; 8:45 am]

BILLING CODE 4910-13-P